DEPARTMENT OF HEALTH AND HUMAN SERVICES

Centers for Medicare & Medicaid Services

[Document Identifier: CMS-10891 and CMS-R-285]

Agency Information Collection Activities: Proposed Collection; Comment Request

AGENCY: Centers for Medicare & Medicaid Services, Health and Human Services (HHS).

ACTION: Notice.

SUMMARY: The Centers for Medicare & Medicaid Services (CMS) is announcing an opportunity for the public to comment on CMS' intention to collect information from the public. Under the Paperwork Reduction Act of 1995 (PRA), Federal agencies are required to publish notice in the Federal Register concerning each proposed collection of information (including each proposed extension or reinstatement of an existing collection of information) and to allow 60 days for public comment on the proposed action. Interested persons are invited to send comments regarding our burden estimates or any other aspect of this collection of information, including the necessity and utility of the proposed information collection for the proper performance of the agency's functions, the accuracy of the estimated burden, ways to enhance the quality, utility, and clarity of the information to be collected, and the use of automated collection techniques or other forms of information technology to minimize the information collection burden.

DATES: Comments must be received by June 17, 2024.

ADDRESSES: When commenting, please reference the document identifier or OMB control number. To be assured consideration, comments and recommendations must be submitted in any one of the following ways:

1. Electronically. You may send your comments electronically to http://www.regulations.gov. Follow the instructions for “Comment or Submission” or “More Search Options” to find the information collection document(s) that are accepting comments.

2. By regular mail. You may mail written comments to the following address: CMS, Office of Strategic Operations and Regulatory Affairs, Division of Regulations Development, Attention: Document Identifier/OMB Control Number: ___, Room C4-26-05, 7500 Security Boulevard, Baltimore, Maryland 21244-1850.

To obtain copies of a supporting statement and any related forms for the proposed collection(s) summarized in this notice, please access the CMS PRA website by copying and pasting the following web address into your web browser: https://www.cms.gov/Regulations-and-Guidance/Legislation/PaperworkReductionActof1995/PRA-Listing.

FOR FURTHER INFORMATION CONTACT: William N. Parham at (410) 786-4669.

SUPPLEMENTARY INFORMATION:

Contents

This notice sets out a summary of the use and burden associated with the following information collections. More detailed information can be found in each collection's supporting statement and associated materials (see ADDRESSES).

CMS-10891 Medicaid Program; Medicare Savings Program Application and Eligibility Determinations

CMS-R-285 Medicare Request for Retirement Benefit Information

Under the PRA (44 U.S.C. 3501-3520), Federal agencies must obtain approval from the Office of Management and Budget (OMB) for each collection of information they conduct or sponsor. The term “collection of information” is defined in 44 U.S.C. 3502(3) and 5 CFR 1320.3(c) and includes agency requests or requirements that members of the public submit reports, keep records, or provide information to a third party. Section 3506(c)(2)(A) of the PRA requires Federal agencies to publish a 60-day notice in the Federal Register concerning each proposed collection of information, including each proposed extension or reinstatement of an existing collection of information, before submitting the collection to OMB for approval. To comply with this requirement, CMS is publishing this notice.

Information Collection

1. Type of Information Collection Request: New collection (Request for a new OMB control number); Title of Information Collection: Medicaid Program; Medicare Savings Program Application and Eligibility Determinations; Use: The provisions in this collection of information request are necessary for helping to enroll individuals into the Medicare Savings Programs (MSPs) as directed by the Medicare Improvements for Patients and Providers Act of 2008 (MIPPA) and for implementing the September 21, 2023 (88 FR 65230) final rule entitled, “Streamlining Medicaid: Medicare Savings Program Eligibility Determination and Enrollment” (hereinafter “MSP final rule”) (CMS-2421-F; RIN 0938-AU00).

CMS did not previously estimate several costs for implementing the provisions of MIPPA related to MSPs as well as costs related to MSPs that were longstanding costs inherent to the Medicaid program that predated MIPPA. To address that oversight, we estimate such burden in this collection of information request. We also estimate burden and savings associated with the provisions in the MSP final rule. Such burden was set out in the Regulatory Impact Analysis section of the final rule.

The MSPs are essential to the health and well-being of those enrolled, promoting access to care and helping free up individuals' limited income for food, housing, and other life necessities. Through the MSPs, Medicaid pays Medicare Part B premiums each month for over 10 million individuals and Part A premiums for over 700,000 individuals. State Medicaid agencies receive applications and adjudicate eligibility for MSP coverage.

MIPPA created new requirements for states to leverage the Medicare Part D Low-Income Subsidy (LIS) program to help enroll likely-eligible individuals in MSPs, and the MSP final rule expanded those requirements. States use information collected by the Social Security Administration on the LIS application (transmitted to states with the consent of an individual completing an application) to determine eligibility for the MSPs. Under the MSP final rule, the state Medicaid agency accepts and verifies the information provided on the LIS application (to the extent allowable under the MSP final rule); communicates with the applicant or the authorized representative about any additional information needed to make an MSP determination; makes the MSP eligibility determination; enrolls the individual in an MSP, if eligible; and informs the individual about the rights and responsibilities for applying for full Medicaid eligibility. Applicants include anyone who chooses to apply for LIS and provides consent for their application to be considered for MSPs.

In addition to building on MIPPA and strengthening the LIS pathway for enrolling in MSPs, the MSP final rule streamlined MSP eligibility and enrollment processes, reduced administrative burden on states and applicants, and increased enrollment and retention of eligible individuals.

Form Number: CMS-10891 (OMB control number: 0938-TBD); Frequency: Occasionally; Affected Public: State, Local and Tribal Governments and Individuals or households; Number of Respondents: 3,460,750; Total Annual Responses: 3,460,750; Total Annual Hours: 3,255,668. (For policy questions regarding this collection contact: Melissa Heitt at 410-786-2484.)

2. Type of Information Collection Request: Extension without change of a currently approved collection; Title of Information Collection: Medicare Request for Retirement Benefit Information; Use: Medicare Premium Part A is a voluntary program that is financed from premium payments by enrollees together with contributions from funds appropriated by the Federal Government. Form CMS-R-285, “Medicare Request for Retirement Benefit Information,” is used to obtain information regarding whether a beneficiary currently purchasing Medicare Premium Part A coverage is receiving retirement payments based on State or local government employment, how long the claimant worked for the State or local government employer, and whether the former employer or pension plan is subsidizing the individual's Part A premium.

Form CMS-R-285 provides the necessary information regarding the prior state or local government employment to process the individual's request for premium Part A reduction based on their employment by a state or local government. The form is completed by the state or local government employer on behalf of the individual seeking the Medicare premium reduction. The SSA, CMS' agent for processing Medicare enrollments and premium amount determinations, will use this information to help determine whether a beneficiary meets the requirements for reduction of the Part A premium. The form is owned by CMS but not completed by CMS staff. Form Number: CMS-R-285 (OMB control number: 0938-0769); Frequency: Once; Affected Public: State, Local, or Tribal Governments; Number of Respondents: 500; Total Annual Responses: 500; Total Annual Hours: 125. (For policy questions regarding this collection contact Candace Carter at 410-786-8446.)

William N. Parham, III,
Director, Division of Information Collections and Regulatory Impacts, Office of Strategic Operations and Regulatory Affairs.

[FR Doc. 2024-08223 Filed 4-17-24; 8:45 am]

BILLING CODE 4120-01-P